COMMITTEE FOR PURCHASE FROM PEOPLE WHO ARE BLIND OR SEVERELY DISABLED

Procurement List, Proposed Deletions

AGENCY: Committee for Purchase From People Who Are Blind or Severely Disabled.

ACTION: Proposed Deletions from the Procurement List.

SUMMARY: The Committee is proposing to delete services from the Procurement List that were provided by nonprofit agencies employing persons who are blind or have other severe disabilities.

Comments Must Be Received On or Before: 12/17/2012.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Deletions

The following services are proposed for deletion from the Procurement List:

Services

Service Type/Location: Janitorial/Custodial, Defense Logistics Agency: Point Pleasant Depot, Defense National Stockpile Zone, 2601 Madison Avenue, Point Pleasant, WV.

NPA: Prestera Center for Mental Health Services, Inc., Huntington, WV.

Contracting Activity: Defense Logistics Agency Support Services—DSS, Fort Belvoir, VA.

Service Type/Location: Shelf Stocking & Custodial, Fort Stewart Commissary, Fort Stewart, GA.

NPA: Unknown.

Contracting Activity: Defense Commissary Agency (DECA), Fort Lee, VA.

Barry S. Lineback,
Director, Business Operations.

[FR Doc. 2012-27920 Filed 11-15-12; 8:45 am]

BILLING CODE 6353-01-P